DEPARTMENT OF ENERGY

Federal Energy Regulatory Commission

[Docket No. CP11-481-000]

Southern Star Central Gas Pipeline, Inc.; Supplemental Notice of Intent To Prepare an Environmental Assessment for the Proposed Alden Gas Storage Field Expansion Project and Request for Comments On Environmental Issues

As previously noticed on July 8, 2011, and supplemented herein, the staff of the Federal Energy Regulatory Commission (FERC or Commission) will prepare an environmental assessment (EA) that will discuss the environmental impacts of the Alden Gas Storage Field Expansion Project, involving the expansion of the certificated boundary and buffer zone of the existing Alden Gas Storage Field by Southern Star Central Gas Pipeline, Inc. (Southern Star) in Rice County, Kansas. This EA will be used by the Commission in its decision-making process to determine whether the project is in the public convenience and necessity.

This Supplemental Notice of Intent announces the opening of a limited scoping period the Commission will use to gather input from the public and interested agencies on the project. Your input will help the Commission staff determine what issues need to be evaluated in the EA. Details on how to submit written comments are provided in the Public Participation section of this notice. Please note that the limited scoping period will close on January 13, 2012.

This notice is being sent to the Commission's current environmental mailing list for this project. State and local government representatives are asked to notify their constituents of this project and encourage them to comment on their areas of concern.

If you are a landowner or owner of mineral rights receiving this notice, you may be contacted by a storage company representative about the acquisition of mineral rights and an easement to convert, operate, and maintain the proposed facilities. The company would seek to negotiate a mutually acceptable agreement. However, if the project is approved by the Commission, that approval conveys with it the right of eminent domain. Therefore, if negotiations to obtain an easement or mineral rights fail to produce an agreement, the company could initiate condemnation proceedings where compensation would be determined in accordance with state or federal law.

A fact sheet prepared by the FERC entitled “An Interstate Natural Gas Facility On My Land? What Do I Need To Know?” was attached to the project notice Southern Star provided to landowners and owners of mineral rights. This fact sheet addresses a number of typically-asked questions, including the use of eminent domain and how to participate in the Commission's proceedings. It is also available for viewing on the FERC Web site (www.ferc.gov).

Summary of the Proposed Project

Southern Star requests authorization to expand its existing certificated boundary and buffer zone of its existing Alden Gas Storage Field located in Rice County, Kansas to ensure the field's integrity and protection. The certified storage boundary/buffer currently encompasses 3,540 acres and operates with a maximum storage capacity of 14.7 billion cubic feet (Bcf) with a working capacity of 4.2 Bcf. Southern Star states it will attempt to acquire all mineral rights from the base of the Kansas City Limestone to the top of the Arbuckle Limestone in this area to prevent any further production that could compromise the integrity of the Alden Storage Field.

Southern Star proposes to expand the storage field boundary and buffer zone by an additional 1,592 acres for its storage reservoir in the Misener Sandstone and to acquire gas storage rights and related mineral rights in the Simpson Sandstone for 2,480 acres, which is below the Misener Sandstone. About 1,680 acres of the 2,480 acres in the Simpson Sandstone is within the currently certificated boundary of the Alden Storage Field. The total acreage affected by the requested authorizations is 3,272 acres.

Southern Star also requests to convert two active oil/gas production wells within the planned expansion acreage, called the Rama Wellman #1 Well and the Langston Wellman Ranch #2 Well, into pressure observation wells. Southern Star states that the conversion of these production wells to observation wells is necessary because the wells are currently producing gas from its Alden Storage Field. Southern Star would also remove two existing tank battery facilities dedicated to each of the production wells. Southern Star's proposal would not change the current operational parameters or capabilities of the storage field.

Pursuant to its blanket certificate, within 6 months of the receipt of the authority requested, Southern Star would install a small compressor unit of less than 50 horsepower and construct about 0.75 mile of 4-inch-diameter pipeline parallel to an existing Southern Star 16-inch-diameter pipeline to recover storage gas from the Simpson formation through an existing well, called the O-5 well, which would function as a gas recovery well to recycle gas back to the Misener reservoir.

Within a year of receiving the authorizations requested, Southern Star would drill an observation well within the current boundaries of the northeast section of the Alden Storage Field in the Simpson Sandstone to monitor for storage gas migration. The location of this new observation well would be at the structural high in the Simpson formation, but the exact location has not yet been determined. Southern Star would obtain the required environmental clearances for this observation well and file a 30-day advance notice with the Commission in accordance with section 2.55(a)(2)(ii) of the Commission's regulations.

The general location of the project area is shown in appendix 1.¹

¹ The appendices referenced in this notice will not appear in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the Rama Wellman #1 Well would disturb about 0.9 acre of land including the temporary workspaces and access road for the well conversion and to remove associated tank battery facilities. Construction of the proposed Langston Wellman Ranch #2 Well would disturb about 2.3 acres of land that includes the temporary workspaces and an access road for this well conversion and to remove tank battery facilities. Following construction, about 0.3 acre would be maintained for permanent operation of each of the observation wells; the remaining acreage would be restored and allowed to revert to former uses. Permanent access roads at each observation well are proposed.

The EA Process

The National Environmental Policy Act (NEPA) requires the Commission to take into account the environmental impacts that could result from an action whenever it considers the issuance of a Certificate of Public Convenience and Necessity. NEPA also requires us ² to discover and address concerns the public may have about proposals. This process is referred to as “scoping”. The main goal of the scoping process is to focus the analysis in the EA on the important environmental issues. By this notice, the Commission requests public comments on the scope of the issues to address in the EA. All comments received will be considered during the preparation of the EA.

² “We,” “us,” and “our” refer to the environmental staff of the Commission's Office of Energy Projects.

In the EA, we will discuss impacts that could occur as a result of the removal, coversion, and operation of those facilities related to the proposed expansion of the storage field boundary and buffer zone under these general headings:

• Geology and soils;

• Land use;

• Water resources, fisheries, and wetlands;

• Cultural resources;

• Vegetation and wildlife;

• Air quality and noise;

• Endangered and threatened species; and

• Public safety.

We will also evaluate reasonable alternatives to the proposed project or portions of the project, and make recommendations on how to lessen or avoid impacts on the various resource areas.

The EA will present our independent analysis of the issues. The EA will be available in the public record through eLibrary. Depending on the comments received during the scoping process, we may also publish and distribute the EA to the public for an allotted comment period. We will consider all comments on the EA before making our recommendations to the Commission. To ensure we have the opportunity to consider and address your comments, please carefully follow the instructions in the Public Participation section beginning on page 5.

With this notice, we are asking agencies with jurisdiction by law and/or special expertise with respect to the environmental issues of this project to formally cooperate with us in the preparation of the EA.³ Agencies that would like to request cooperating agency status should follow the instructions for filing comments provided under the Public Participation section of this notice.

³ The Council on Environmental Quality regulations addressing cooperating agency responsibilities are at Title 40, Code of Federal Regulations, § 1501.6.

Consultations Under Section 106 of the National Historic Preservation Act

In accordance with the Advisory Council on Historic Preservation's implementing regulations for section 106 of the National Historic Preservation Act, we are using this notice to initiate consultation with the Kansas State Historic Preservation Office (SHPO), and to solicit its views and those of other government agencies, interested Indian tribes, and the public on the project's potential effects on historic properties.⁴ We will define the project-specific Area of Potential Effects (APE) in consultation with the SHPO as the project is further developed. On natural gas facility projects, the APE at a minimum encompasses all areas subject to ground disturbance (examples include construction right-of-way, contractor/pipe storage yards, compressor stations, and access roads). Our EA for this project will document our findings on the impacts on historic properties and summarize the status of consultations under section 106.

⁴ The Advisory Council on Historic Preservation's regulations are at Title 36 of the Code of Federal Regulations, Part 800. Those regulations define historic properties as any prehistoric or historic district, site, building, structure, or object included in or eligible for inclusion in the National Register for Historic Places.

Public Participation

You can make a difference by providing us with your specific comments or concerns about the project. Your comments should focus on the potential environmental effects, reasonable alternatives, and measures to avoid or lessen environmental impacts. The more specific your comments, the more useful they will be. To ensure that your comments are timely and properly recorded, please send them so that the Commission receives them in Washington, DC on or before January 13, 2012.

For your convenience, there are three methods which you can use to submit your comments to the Commission. In all instances please reference the project docket number (CP11-481-000) with your submission. The Commission encourages electronic filing of comments and has expert eFiling staff available to assist you at (202) 502-8258 or efiling@ferc.gov.

(1) You can file your comments electronically using the eComment feature on the Commission's Web site at www.ferc.gov under the link to Documents and Filings. This is an easy method for interested persons to submit brief, text-only comments on a project;

(2) You can file your comments electronically by using the eFiling feature on the Commission's Web site at www.ferc.gov under the link to Documents and Filings. With eFiling you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property or mineral rights may be used permanently or temporarily for project purposes, and anyone who submits comments on the project. We will update the environmental mailing list as the analysis proceeds to ensure that we send the information related to this environmental review to all individuals, organizations, and government entities interested in and/or potentially affected by the proposed project.

If we publish and distribute the EA, copies will be sent to the environmental mailing list for public review and comment. If you would prefer to receive a paper copy of the document instead of the CD version or would like to remove your name from the mailing list, please return the attached Information Request (appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the project is available from the Commission's Office of External Affairs at (866) 208-FERC, or on the FERC Web site at www.ferc.gov using the “eLibrary” link. Click on the eLibrary link, click on “General Search” and enter the docket number, excluding the last three digits in the Docket Number field (i.e., CP11-481). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Any public meetings or additional site visits will be posted on the Commission's calendar located at www.ferc.gov/EventCalendar/EventsList.aspx along with other related information.

Dated: December 9, 2011.
Kimberly D. Bose,
Secretary.

[FR Doc. 2011-32376 Filed 12-16-11; 8:45 am]

BILLING CODE 6717-01-P